DEPARTMENT OF THE TREASURY

Alcohol and Tobacco Tax and Trade Bureau

27 CFR Part 9

[Notice No. 27]

RIN 1513-AA91

Proposed Horse Heaven Hills Viticultural Area (2002R-103P)

AGENCY: Alcohol and Tobacco Tax and Trade Bureau, Treasury.

ACTION: Notice of proposed rulemaking.

SUMMARY: The Alcohol and Tobacco Tax and Trade Bureau proposes to establish the “Horse Heaven Hills” viticultural area in south-central Washington State. Located along the Columbia River in portions of Klickitat, Yakima, and Benton counties, the proposed area is about 115 miles east of Vancouver, Washington, and lies entirely within the established Columbia Valley viticultural area. We designate viticultural areas to allow vintners to better describe the origin of their wines and to allow consumers to better identify wines they may purchase. We invite comments on this proposed addition to our regulations.

DATES: Written comments must be received on or before March 25, 2005.

ADDRESSES: You may send comments to any of the following addresses:

• Chief, Regulations and Procedures Division, Alcohol and Tobacco Tax and Trade Bureau (Attn: Notice No. 27), P.O. Box 14412, Washington, DC 20044-4412:

• (202) 927-8525 (facsimile);

• nprm@ttb.gov (e-mail); or

• http://www.ttb.gov. An online comment form is posted with this notice on our Web site.

• http://www.regulations.gov (Federal e-rulemaking portal; follow instructions for submitting comments).

You may view copies of this notice, the petition, the appropriate maps, and any comments we receive on this proposal by appointment at the TTB Library, 1310 G Street, NW., Washington, DC 20220. To make an appointment, call (202) 927-2400. You may also access online copies of the notice and any comments received at http://www.ttb.gov/alcohol/rules/index.htm.

See the “Public Participation” section of this notice for specific instructions and requirements for submitting comments, and for information on how to request a public hearing.

FOR FURTHER INFORMATION CONTACT: N. A. Sutton, Program Manager, Regulations and Procedures Division, Alcohol and Tobacco Tax and Trade Bureau, 925 Lakeville Street, #158, Petaluma, CA 94952; telephone (415) 271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on those labels. The FAA Act also authorizes the Secretary of the Treasury to issue regulations to carry out its provisions. The Alcohol and Tobacco Tax and Trade Bureau (TTB) administers these regulations.

Part 4 of TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographic features, the boundaries of which have been recognized and defined in part 9 of the regulations. These designations allow vintners and consumers to attribute a given quality, reputation, or other characteristic of wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Horse Heaven Hills Petition

Background Information

TTB has received a petition requesting establishment of a new viticultural area in south-central Washington State to be called “Horse Heaven Hills.” Paul D. Lucas filed the petition on behalf of wine grape growers within the proposed area.

The proposed Horse Heaven Hills viticultural area covers portions of Klickitat, Yakima, and Benton counties north and west of the Columbia River and south of the Yakima Valley. The proposed area is about 115 miles east of Vancouver, Washington, and just south of Kennewick, Benton City, and Prosser, Washington. Running west from near the point where the Oregon—Washington State line leaves the Columbia River, the proposed area is about 60 miles long and 22 miles wide.

The proposed area lies southeast of the established Yakima Valley viticultural area (27 CFR 9.69) and south of the smaller Red Mountain viticultural area (27 CFR 9.167). Like the Yakima Valley and Red Mountain areas, the proposed Horse Heaven Hills area is entirely within the larger, existing Columbia Valley viticultural area (27 CFR 9.74). The Walla Walla Valley viticultural area (27 CFR 9.91) lies about 30 miles east of the proposed area, on the opposite side of the Columbia River.

According to the petition, the Horse Heaven Hills are a series of south-facing slopes, which have the geographical characteristics of a watershed, with dozens of drainages running in a spoke pattern from the proposed area's north to its south along the Columbia River. The petitioner also states that the Horse Heaven Hills are unique due to the strong wind that blows through the Columbia River Valley, directly affecting the viticultural features of the region. The proposed Horse Heaven Hills viticultural area covers a total of 570,000 acres of open, dry plains and hills, of which 90 percent could be planted to wine grapes, according to the petitioner, if adequate irrigation were available.

Viticultural History

According to the petition, growers have been raising grapes in the Horse Heaven Hills since 1972, when Don Mercer planted a 5-acre parcel of Cabernet Sauvignon at Phinny Hill, Washington. Between 1978 and 1981, Stimson Lane planted 2,000 acres in Paterson, Washington, including Merlot, Cabernet Sauvignon, Gewurztraminer, Riesling, Sauvignon Blanc, and Grenache grapes. The first commercial wines from the proposed Horse Heaven Hills area were Mercer Ranch Vineyards' Cabernet Sauvignon, and St. Michelle's Gewurztraminer, Grenache Rose, and Cabernet Sauvignon, which were all produced in the mid 1980s.

Significant plantings continued in the Horse Heaven Hills throughout the mid 1980s and the early 1990s, according to the petition. Plantings greatly accelerated after the vineyards in the Horse Heaven Hills survived the hard freeze of 1996, which destroyed much of Washington State's grape crop. Some of the more recent plantings are Alder Ridge Vineyard, Aldercreek Vineyards, Elerding Vineyard, and Minerva Vineyards. As of 2002, the petition notes, there are at least 20 vineyards, with over 6,040 acres planted, plus four commercial wineries within the proposed area.

Name Evidence

The petitioner states that the range of hills in south-central Washington in which the proposed viticultural area is located has been continuously referred to as the Horse Heaven Hills since 1857. Before that time Native Americans called the area Wehopepum, while the early settlers referred to it as Klickitat Prairie or Bedrock Springs Country. The petition notes that the hills' name is widely used and has survived attempts to officially change it to Benton Slope or Columbia Plains.

According to the books “Benton County Place Names” and “Prosser—The Home County,” James Kinney, a cattleman who was camping one night near Kiona, Washington, gave the hills their current name. Kinney awoke to find that his animals had wandered up a mountainside and into an upland plain where they were dining on succulent bunch grass. According to the books, he commented to himself, “Surely this is Horse Heaven.”

According to an untitled history of the region provided by the petitioner, the first official use of the name Horse Heaven in conjunction with this area dates to 1884 with the founding of the Horse Heaven School. This history also notes that the Horse Heaven Cemetery started in the garden of William Dennis, a local resident killed in a harvest accident in 1892. In addition, the petition notes that local newspapers such as the Prosser Falls American (circa 1893) often referenced the Horse Heaven Hills name, as did books written about the area such as “Against Odds, A Personal Narrative of Life in Horse Heaven” (K. Elizabeth Sihler, Concordia Publishing House, St. Louis, Missouri, 1917). More recently, the Yakima-Herald published an on-line wine article in 2001 that mentions the Horse Heaven Ranch.

The American Automobile Association map for the States of Oregon and Washington, published February 2003, identifies the area as “Horse Heaven Hills.” The United States Geological Survey (USGS) and other official State maps and atlases, the petition also notes, consistently refer to this geologic formation as the “Horse Heaven Hills.”

Boundary Evidence

The petitioner states that the proposed Horse Heaven Hills viticultural area boundary is based on the area's topography and a combination of climate, terrain, and soil factors that differentiate the Horse Heaven Hills from surrounding geographic regions and the viticultural areas of Yakima Valley, Walla Walla Valley, Red Mountain, and Columbia Valley.

The petitioner's proposed boundary follows the northern bank of the Columbia River west from the Interstate 82 bridge (near Umatilla, Oregon) to Pine Creek in Klickitat County. The boundary follows Pine Creek north to the 1,700-foot contour line, and then goes northeast to the ridge that separates the Horse Heaven Hills from the much lower Yakima Valley. The proposed boundary then generally follows that ridge northeasterly and then southeasterly, returning to the Columbia River's northern bank, to form the proposed area's northern and eastern sides.

Distinctive Features

The petitioner states that the proposed Horse Heaven Hills viticultural area is a unique grape-growing region distinguished from the nearby, established viticultural areas of Yakima Valley, Red Mountain, and Walla Walla Valley, and from the larger, surrounding Columbia Valley viticultural area. In addition to the proposed area's topography, wind, annual heat units accumulation, precipitation, and soils also differentiate it from the surrounding viticultural areas, according to the petition.

Topography

The proposed Horse Heaven Hills viticultural area is located in south-central Washington State, east of the Cascade Mountain Range and north and west of the Columbia River, which bisects part of the State. The 570,000 acres contained in the proposed viticultural area are generally south-sloping, open desert plains with the geographical characteristics of a watershed as dozens of drainages run north to south through the area in a wheel spoke pattern. Elevations range from 1,800 feet at the area's northern boundary to 200 feet at its southern boundary along Columbia River.

To the north and east, the Yakima Valley borders the proposed viticultural area. The crest of the Horse Heaven Hills and the steep slope and cliffs of the Yakima Valley form a natural boundary between the two regions. Only three Washington State Department of Transportation-maintained passes exist between the Horse Heaven Hills and the Yakima Valley, the petition notes. Extreme terrain and south- and southeast-facing slopes mark the area's western border. The 1,700-foot elevation line creates a border that follows the drainages in a south-southwest line to Pine Creek and down to the Columbia River. The southern border is the Washington State shoreline of the Columbia River.

Wind

Perhaps the most unique feature of the proposed Horse Heaven Hills viticultural area, according to the petition, is the amount of strong wind the area receives. Because of the area's proximity to the Columbia River, and because the Columbia Gorge acts as a funnel, the Horse Heaven Hills area receives significantly more wind than surrounding areas.

In “The Columbia Gorge Wind Funnel,” an article in the July 2003 issue of Weatherwise magazine (pages 104 through 107), Howard E. Graham of the National Weather Service's Portland, Oregon, office explains that the wind patterns through the Columbia Gorge are a function of the pressure differences between the west and east ends of this 120-mile long canyon. The Gorge surrounds the Columbia River between Bridal Veil to the west, and Arlington to the east. The article emphasizes that the rarely calm winds always flow along the axis of the Gorge. The Pacific winds from the west bring moderating, mild maritime air into the Gorge. Conversely, the continental high winds from the east bring dry air that is seasonably hot or cold. The heat of the Columbia Basin, according to the petitioner, draws these intense winds north over Horse Heaven Hills after they exit the Columbia Gorge.

The proposed Horse Heaven Hills viticultural area records an average of 30 percent more annual Wind Run Miles (a unit of measurement for the force and speed of wind in one hour), the petition states, than the Walla Walla viticultural area to the east and the Yakima Valley viticultural area to the north. It has 20 percent more Wind Run Miles than the Red Mountain viticultural area, which is to the proposed area's immediate north. Annual Wind Run Miles (WRMs) within the proposed Horse Heaven Hills average 46,200. By comparison, the Walla Walla and Yakima Valley average 32,800 WRMs, while the Red Mountain area averages 36,700 WRMs annually.

The wind's effect on viticulture is especially noted during the grapevines' bud-break to fruit-set period, according to a 1982 article, “Influence of Windbreaks and Climatic Region on Diurnal Fluctuation of Leaf Water Potential, Stomatal Conductance, and Leaf Temperature of Grapevines,” by Freeman, Kliewer, and Stern in the American Journal of Enological Viticulture, vol. 33:233-236. The most-often observed consequences of the higher winds within the proposed Horse Heaven Hills viticultural area are a reduction in canopy size and density of grapes on the vines, and a reduction in vine disease, a result of the drying of wet plant surfaces on which fungal spores or bacteria may have landed. The petitioner contends that the amount of wind is a key factor in determining the amount of irrigation needed to allow the vines to grow without causing harm to the plants.

Temperature

According to the petition, the proposed Horse Heaven Hills viticultural area is one of the warmest growing regions within the Columbia Valley region of Washington State. This is significant, the petitioner states, because of the dramatic impact a warm growing season has on harvest date and fruit quality. The petition notes that harvest time in the Horse Heaven Hills may start up to two weeks before the harvest in the Yakima Valley, 40 miles to the northwest. Further, the petitioner states, the growing season in the Horse Heaven Hills allows growers to ensure full maturity in mid- to late-season grape varieties while receiving the benefit of extended time on the vine. The length of the growing season produces unique fruit characteristics, the petition notes, resulting in many “single vineyard” designated wines. It also decreases the risk of fall frost and harvest time disease.

The proposed Horse Heaven Hills viticultural area, according to the petition, accumulates on average 10 percent more Annual Heat Units (an index calculating the sum of the average daily temperatures above a threshold of 50 degrees F during the growing season) than the Yakima Valley and 5 percent more than Chelan, Washington, 120 miles to the north. The petition added that heat accumulation in the Horse Heaven Hills area is comparable to the Walla Walla Valley viticultural area but 10 percent less than the Red Mountain area to its immediate north. For example, the petition states that over the past ten years the Horse Heaven Hills area averaged an Annual Heat Unit accumulation of 2,801. By contrast, the areas surrounding Horse Heaven Hills had the following annual averages: Yakima Valley—2,568; Chelan—2,676; Red Mountain—3,016; and Walla Walla—2,821.

Rainfall

The petitioner states that central and eastern Washington State receives most of its annual rainfall in the winter months when grapevines are dormant. As a result, all grape-growing areas in this region require supplemental irrigation. However, the petition notes, the low amount of precipitation received during the growing season reduces the risk of harmful diseases that may occur in the vineyard. Further, the petitioner asserts that the low amount of water the grapevines in the Horse Heaven Hills area receive prevents excessive vine canopy growth, which may lead to grapes with vegetative flavors, excessive acidity, reduced color, and large berry size.

The petition states that the proposed Horse Heaven Hills area receives significantly less rainfall than the Walla Walla Valley area to the east (about 45 percent less on average), and 30 percent less than Chelan, Washington, to the north. Annual rainfall within the proposed Horse Heaven Hills viticultural area averages 9 inches. By comparison, Walla Walla and Chelan average 19.7 and 13.2 inches of annual rainfall, respectively. The Yakima Valley averages 7.8 inches of annual rainfall.

Soils

According to Alan Busacca of the Department of Crop and Soil Sciences, Washington State University, three dominant parent materials formed the soils in the proposed Horse Heaven Hills viticultural area: (1) Eolian sand and silt (wind blown dunes and loess); (2) sediments from giant glacial outburst floods, including gravelly alluvium and stratified fine sands and silts (slackwater sediments); and (3) hill slope rubble from the Columbia River Basalt bedrock. The soils of each State of Washington viticultural area are distinct, with variations in the proportion and distribution of the three parent materials noted above, according to Larry Meinert, Professor of Geology, Washington State University. The proposed Horse Heaven Hills viticultural area is farther south or west than the surrounding grape-growing areas (Walla Walla Valley, Yakima Valley, and Red Mountain), and given the westerly wind transport predominant in the area, as well as the direction of glacial floods, the grain size distribution of the soils in Horse Heaven Hills is different from that in the surrounding viticultural areas, according to the petitioner.

The area's low annual precipitation and its hot summers weather the parent materials and soils. The soils found in the proposed viticultural area are mainly classified as Aridisols (desert soils) and Mollisols (prairie soils), which are formed from various combinations of the three parent materials, according to the Soil Survey Staff in “Soil Taxonomy, A Basic System of Soil Classification for Making and Interpreting Soil Surveys,” (Second Edition, 1999, U.S.D.A. Natural Resources Conservation Service).

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Horse Heaven Hills,” will be recognized as a name of viticultural significance. In addition, with the establishment of the Horse Heaven Hills viticultural area, the name “Horse Heaven” standing alone will be considered a term of viticultural significance because consumers and vintners could reasonably attribute the quality, reputation, or other characteristic of wine made from grapes grown in the proposed Horse Heaven Hills viticultural area to the name Horse Heaven itself.

The name evidence provided by the petitioner shows that the names “Horse Heaven Hills” and “Horse Heaven” are often used interchangeably, and that the name “Horse Heaven” applies to places within the proposed area's boundary. We note in this regard that information contained in the Geographic Names Information System maintained by the U.S. Geological Survey, and a general search of relevant Internet websites, indicate that the name “Horse Heaven” is used for a populated place, a school, a cemetery, a ranch, a vineyard, an equine art gallery, an inn, and other places and businesses within or near the proposed viticultural area in south-central Washington State. See 27 CFR 4.39(i)(3), which also provides that a name has viticultural significance when determined by a TTB officer. Therefore, the proposed part 9 regulatory text set forth in this document specifies both “Horse Heaven Hills” and “Horse Heaven” as terms of viticultural significance for purposes of part 4 of the TTB regulations.

If the proposed regulatory text is adopted as a final rule, wine bottlers using “Horse Heaven Hills” or “Horse Heaven” in a brand name, including a trademark, or in another label reference as to the origin of the wine, will have to ensure that the product is eligible to use the viticultural area's full name or “Horse Heaven” as an appellation of origin.

For a wine to be eligible to use as an appellation of origin a viticultural area name or other term specified as being viticulturally significant in part 9 of the TTB regulations, at least 85 percent of the grapes used to make the wine must have been grown within the area represented by that name or other term, and the wine must meet the other conditions listed in 27 CFR 4.25(e)(3). If the wine is not eligible to use as an appellation of origin a viticultural area name or other viticulturally significant term that appears in the brand name, then the label is not in compliance and the bottler must change the brand name and obtain approval of a new label. Similarly, if the viticultural area name or other viticulturally significant term appears in another reference on the label in a misleading manner, the bottler would have to obtain approval of a new label. Accordingly, if a new label or a previously approved label uses the name “Horse Heaven Hills” or “Horse Heaven” for a wine that does not meet the 85 percent standard, the new label will not be approved, and the previously approved label will be subject to revocation, upon the effective date of the approval of the Horse Heaven Hills viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climactic, and other required information submitted in support of the petition. In addition, we are interested in receiving comments on the proposal to identify “Horse Heaven” as a term of viticultural significance. Please provide any available specific information in support of your comments.

Because of the potential impact of the establishment of the proposed Horse Heaven Hills viticultural area on brand labels that include the words “Horse Heaven Hills” or the words “Horse Heaven” as discussed above under “Impact on Current Wine Labels,” we are particularly interested in comments regarding whether there will be a conflict between the proposed area name and currently used brand names. If a commenter believes that a conflict will arise, the comment should describe the nature of that conflict, including any anticipated negative economic impact that approval of the proposed viticultural area will have on an existing viticultural enterprise. We are also interested in receiving suggestions for ways to avoid conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in any of five ways.

• By mail: You may send written comments to TTB at the address listed in the ADDRESSES section.

• By facsimile: You may submit comments by facsimile transmission to (202) 927-8525. Faxed comments must—

(1) Be on 8½ by 11-inch paper,

(2) Contain a legible, written signature; and

(3) Be five or less pages long. This limitation assures electronic access to our equipment. We will not accept faxed comments that exceed five pages.

• By e-mail: You may e-mail comments to nprm@ttb.gov. Comments transmitted by electronic-mail must—

(1) Contain e-mail address;

(2) Reference this notice number on the subject line; and

(3) Be legible when printed on 8½ x 11-inch size paper.

• By Online Form: We provide a comment form with the online copy of this notice on our Web site at http://www.ttb.gov/alcohol/rules/index.htm. Select “Send comments via e-mail” under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All comments and other submitted materials are part of the public record and subject to disclosure. Do not enclose any material in your comments that you consider confidential or inappropriate for disclosure.

Public Disclosure

You may view copies of this notice, the petition, the appropriate maps, and any comments we receive on this proposal by appointment at the TTB Library at 1310 G Street, NW., Washington, DC 20220. You may also obtain copies at 20 cents per 8.5- x 11-inch page. Contact our librarian at the above address or telephone (202) 927-2400 to schedule an appointment or to request copies of comments.

For your convenience, we will post this notice and any comments we receive on the TTB Web site. We may omit voluminous attachments or material that we consider unsuitable for posting. In all cases, the full comment will be available in the TTB Library. To access the online copy of this notice, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866 (58 FR 51735). Therefore, it requires no regulatory assessment.

Drafting Information

The principal author of this document is N.A. Sutton, Regulations and Procedures Division, Alcohol and Tobacco Tax and Trade Bureau.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

Subpart C—American Viticultural Areas

2. Subpart C is amended by adding § 9.___ to read as follows:

§ 9.___ Horse Heaven Hills.

(a) Name. The name of the viticultural area described in this section is “Horse Heaven Hills”. For purposes of part 4 of this chapter, “Horse Heaven Hills” and “Horse Heaven” are terms of viticultural significance.

(b) Approved Maps. The appropriate maps for determining the boundaries of the Horse Heaven Hills viticultural area are 28 United States Geological Survey (USGS) 1:24,000 scale topographic maps. They are titled:

(1) Umatilla Quadrangle, Oregon—Washington, 1993;

(2) Irrigon Quadrangle, Oregon—Washington, 1993;

(3) Paterson Quadrangle, Washington—Oregon, 1993;

(4) West of Paterson Quadrangle, Washington—Oregon, 1993;

(5) Boardman Quadrangle, Oregon—Washington, 1993;

(6) Crow Butte Quadrangle, Washington—Oregon, 1993;

(7) Golgotha Butte Quadrangle, Washington—Oregon, 1993;

(8) Heppner Junction Quadrangle, Oregon—Washington, 1962, photo revised, 1970;

(9) Wood Gulch Quadrangle, Washington—Oregon, 1962, photo revised 1970, photo inspected 1975;

(10) Crider Valley Quadrangle, Washington, 1962;

(11) Douty Canyon Quadrangle, Washington, 1962;

(12) Tule Prong Quadrangle, Washington, 1965;

(13) Prosser SW Quadrangle, Washington, 1965, photo inspected 1975;

(14) Mabton West Quadrangle, Washington, 1965;

(15) Mabton East Quadrangle, Washington, 1965;

(16) Prosser Quadrangle, Washington, 1965;

(17) Whitstran Quadrangle, Washington, 1965;

(18) Whitstran NE Quadrangle, Washington, 1965;

(19) Corral Canyon Quadrangle, Washington, 1977;

(20) Webber Canyon Quadrangle, Washington, 1965;

(21) Badger Mountain Quadrangle, Washington, 1965, photo revised 1978;

(22) Taylor Canyon Quadrangle, Washington, 1965;

(23) Johnson Butte Quadrangle, 1964, photo revised 1978;

(24) Nine Canyon Quadrangle, 1964;

(25) Wallula Quadrangle, 1992;

(26) Juniper Canyon Quadrangle, 1966, photo revised 1978;

(27) Juniper Quadrangle, 1993; and

(28) Hat Rock Quadrangle, 1993.

(c) Boundary. The Horse Heaven Hills viticultural area is located in portions of Benton, Klickitat, and Yakima Counties, Washington. The boundary of the Horse Heaven Hills viticultural area is described below:

(1) Beginning on the Umatilla map at the intersection of Interstate Highway 82 and the north bank of the Columbia River in Benton County, Washington, proceed generally west (downstream) along the river's north bank, through the Irrigon, Paterson, West of Paterson, Boardman, Crow Butte, and Golgotha Butte maps, to the mouth of Pine Creek in section 32, T4N/R22E, on the Heppner Junction map in Klickitat County;

(2) Follow Pine Creek northwesterly (upstream) for approximately 7.0 miles to the junction of Pine Creek and the western boundary of section 16, T4N/R21E, on the Wood Gulch map, and continue northerly along the section boundary to its intersection with East Road, and then continue northerly to the road's intersection with the 1,700-foot contour line, very near the southwestern corner of section 9, T4N, R21E;

(3) From the intersection of East Road and the 1,700-foot contour line, proceed northeasterly along the meandering 1,700-foot contour line through, and crossing between, the Crider Valley and Douty Canyon maps (crossing Alder Creek, Stegeman Canyon, Spring Canyon, Sand Ridge, and Willow Creek) to the point where the 1,700-foot contour line intersects Sand Ridge Road in section 4, T5N, R22E, on the Douty Canyon map;

(4) From that point, proceed north-northeasterly along the meandering 1,700-foot contour line, and, passing onto the Tule Prong map, cross Tule Canyon and Tule Prong, return briefly to the Douty Canyon map, then continue northeasterly along the meandering 1,700-foot contour line onto the Tule Prong map, crossing Dead Canyon, pass onto the Prosser SW map, and continue to the contour line's intersection with Alderdale Road in section 31, T7N/R23E, northeast of Coyote Canyon, on the Prosser SW map in Yakima County;

(5) Follow Alderdale Road northwest, returning to the Tule Prong map, and continue northwest and then northerly along Alderdale Road to its intersection with Wandling Road in section 2, T7N/R22E;

(6) From that intersection, proceed northeasterly in a straight line to the 2,011-foot peak near the northwest corner of section 1, T7N/R22E, on the Mabton West map, and continue northeasterly in a straight line to the 1,989-foot peak in the southeast corner of section 36, T8N/R22E, on the Mabton East map;

(7) From that peak, proceed easterly in a straight line through the 1,860-foot benchmark along side Township Road in section 31, T8N/R23E, to the 2,009-foot peak in section 32; continue northerly in a straight line to the 2,011-foot peak in the same section, then proceed easterly to the 1,850 foot peak in the northwest quadrant of section 33, T8N/R23E, then east-northeasterly to the 1,964-foot peak beside the western boundary of section 27, then east-northeasterly through the 2,031-foot peak in the northwest corner of section 26 to the 2,064-foot peak also in section 26;

(8) From that peak, proceed east-southeast to the 2,093 foot peak in the northeastern quadrant of section 25, T8N/R23E on the Prosser map, then continue northeasterly in a straight line to the 2,193-foot peak of Horse Hill in the northeast corner of section 25, T8N/R23E; continue northeasterly in a straight line, crossing into Benton County, to the 2,107-foot peak in section 19, T8N/R24E, then easterly to the 2,081-foot peak in section 21, then east-northeasterly through the 1,813-foot peak near the northwest corner of section 13 to the 1,861-foot peak marked with radio towers near the southern boundary of section 12;

(9) From that peak, proceed northeasterly in a straight line to an unmarked 1,410-foot summit in the northeast corner of section 7, T8N/R25E, on the Whitstran map; continue east-southeasterly to the 1,637-foot peak in the center of section 8 and then north-northeasterly to the intersection of State Route 221 and Carter Road near the southeast corner of section 5;

(10) Follow Carter Road northerly to the point where it becomes an unimproved road and continue northerly then easterly along the unimproved road to the 1,854-foot peak of Gibbon Hill in the northeast corner of the section 4, T8N/R25E;

(11) From that peak, proceed east-northeasterly in a straight line through the 1,745-foot peak in section 35, T9N/R25E, to the 1,976-foot peak in section 36; continue east-northeasterly in a straight line onto the Whitstran NE map through the 1,808-foot peak in section 30, T9N/R25E, to the 1,818-foot peak in the same section.

(12) From that peak, proceed due north in a straight line to the jeep trail above the 1,750-foot contour line near the northeast corner of section 30, T9N/R26E;

(13) Follow the jeep trail east-northeasterly to the 2,046-foot peak of Chandler Butte in section 21, T9N/R26E; continue east-northeasterly and then southeasterly along the jeep trail through sections 22 and 23, T9N/R26E, on the Corral Canyon map, to the intersection of the jeep trail and McBee Grade road near the gravel pit in the southeast corner of section 23, T9N/R26E, on the Whitstran NE map;

(14) From that point, proceed southeasterly in a series of straight lines through the 1,689-foot peak in the southeast corner of section 23, T9N/R26E, the 1,826-foot peak in section 25, and, on the Webber Canyon map, the 1,927-foot and 1,845-foot peaks in section 30, T9N/R27E, and the 1,808-foot peak in section 31 to the 1,745-foot peak in section 32;

(15) From the 1,745-foot peak, proceed due south in a straight line to line's first intersection with the 1,450-foot contour line in section 32, T9N/R27E;

(16) Follow the meandering 1,450-foot contour line generally south and then north around Webber Canyon to the contour line's second intersection with the northern boundary of section 17, close to its northeast corner, T8N/R27E;

(17) Proceed east along the northern boundary of sections 17 and 16 to the boundary's intersection with the 1,500-foot contour line just northwest of Henson Road, T9N/R27E;

(18) Follow the meandering 1,500-foot contour line easterly to its intersection with the eastern boundary of section 15, T8N/R27E;

(19) Proceed due south along the eastern boundary of section 15 to its intersection with the 1,550-foot contour line;

(20) Follow the meandering 1,550-foot contour line southeasterly to its second intersection with the northern boundary of section 23, T8N/R27E;

(21) Proceed due east along the northern boundary of sections 23 and 24 to the boundary's intersection with the 1,600-foot contour line;

(22) Follow the meandering 1,600-foot contour line easterly onto the Badger Mountain map to the contour line's intersection with the R27E/R28E range line (the eastern boundary of section 24, T8N/R27E);

(23) Proceed 1,500 feet due south along the R27E/R28E range line to the line's intersection with the 1,700-foot contour line;

(24) Follow the meandering 1,700-foot contour line easterly then southerly to its intersection with an unimproved road in the south-central portion of section 31, T8N/R28E, and proceed southwesterly along the unimproved road to its intersection with Smith Road near the northern boundary of section 6, T7N/R28E;

(25) Continue southerly along Smith Road to the road's intersection with Clodfelter Road at the southern boundary of section 6, T7N/R28E, on the Taylor Canyon map;

(26) Proceed east on Clodfelter Road to its intersection with Williams Road at the eastern boundary of section 5, T7N/R28E, and continue east on Williams Road to its intersection with the 1,800-foot contour line in section 4, T7N/R28E;

(27) Follow the meandering 1,800-foot contour line southerly then easterly to the contour line's junction with the northeast corner of section 15, T7N/R28E;

(28) From that point, proceed east-southeasterly in a straight line to the 1,680-foot benchmark in section 17, T7N/R29E, on the Johnson Butte map, and continue east-northeasterly in a straight line through the 2,043-foot peak of Johnson Butte to the 2,220-foot peak of Jump Off Joe summit;

(29) From that point, proceed southeasterly in a straight line, through the Nine Canyon map, to the 343-foot benchmark beside Palmer Pond in section 13, T6N/R30E, and to the north bank of the Columbia River on the Wallula map; and

(30) Follow the north bank of the Columbia River westerly (downstream), through the Juniper Canyon, Juniper, and the Hat Rock maps, to the beginning point at the intersection of Interstate Highway 82 and the north bank of the Columbia River on the Umatilla map.

Signed: January 10, 2005.
John J. Manfreda,
Administrator.

[FR Doc. 05-1190 Filed 1-21-05; 8:45 am]

BILLING CODE 4810-31-P